DEPARTMENT OF COMMERCE

National Oceanic and Atmospheric Administration

[Docket No. 080307398-8516-02]

NOAA Bay Watershed Education and Training (B-WET) Program; Correction

AGENCY: Office of Education (OED), Office of the Under Secretary (USEC), National Oceanic and Atmospheric Administration (NOAA), Commerce.

ACTION: Notice of funding availability; correction.

SUMMARY: This notice corrects an error contained in the notice published in the Federal Register on March 17th, 2008. That notice announced the Bay Watershed Education and Training (B-WET) Program competition and contained incorrect dates.

DATES: Proposals must be received by 5 p.m. EST on April 18th, 2008.

FOR FURTHER INFORMATION CONTACT: For the Pacific Northwest, please contact Seaberry Nachbar, NOAA National Marine Sanctuary, 299 Foam Street, Monterey, CA 93940, or by phone at 831-647-4201, or via internet at seaberry.nachbar@noaa.gov; For the northern Gulf of Mexico, Stephanie Bennett, Pacific Services Center, 737 Bishop Street, Suite 1550, Honolulu, HI 96817, or by phone at 808-522-7481, or via internet at stephanie.bennett@noaa.gov; For New England, Shannon Sprague, NOAA Chesapeake Bay Office, 410 Severn Avenue, Suite 107A, Annapolis, MD 21403, or by phone at 410-267-5664, or via internet at shannon.sprague@noaa.gov.

SUPPLEMENTARY INFORMATION:

Correction

The announcement for the NOAA Bay Watershed Education and Training (B-WET) Program competition on March 17, 2008 (73 FR 14222), listed the application deadline as April 16, 2008. The correct application deadline is 5 p.m. EST, April 18, 2008.

Intergovernmental Review

Applications under this program are not subject to Executive Order 12372, Intergovernmental Review of Federal Programs.

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Department of Commerce Pre-Award Notification

Requirements for Grants and Cooperative Agreements

The Department of Commerce Pre-Award Notification Requirements for Grants and Cooperative Agreements contained in the Federal Register notice of February 11, 2008 (73 FR 7696), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Helen Hurcombe,
Director, Acquisition and Grants Office.

[FR Doc. E8-7708 Filed 4-10-08; 8:45 am]

BILLING CODE 3510-12-P